DEPARTMENT OF TRANSPORTATION

Office of the Secretary

Notice of Applications for Certificates of Public Convenience and Necessity and Foreign Air Carrier Permits Filed Under Subpart B (formerly Subpart Q) During the Week Ending March 28, 2015.

The following Applications for Certificates of Public Convenience and Necessity and Foreign Air Carrier. Permits were filed under Subpart B (formerly Subpart Q) of the Department of Transportation's Procedural Regulations (See 14 CFR 302. 201 et. seq.). The due date for Answers, Conforming Applications, or Motions to Modify Scope are set forth below for each application. Following the Answer period DOT may process the application by expedited procedures. Such procedures may consist of the adoption of a show-cause order, a tentative order, or in appropriate cases a final order without further proceedings.

Docket Number: DOT-OST-2015-0064.

Date Filed: March 25, 2015.

Due Date for Answers, Conforming Applications, or Motion to Modify Scope: April 15, 2015.

Description: Application of Altius Aviation, LLC requesting authority to operate scheduled passenger service as a commuter air carrier.

Docket Number: DOT-OST-2015-0065.

Date Filed: March 26, 2015.

Due Date for Answers, Conforming Applications, or Motion to Modify Scope: April 16, 2015.

Description: Application of Air Baltic Corporation A/S (“AirBaltic”) requesting a foreign air carrier permit to authorize foreign air transportation to engage in: (i) Foreign scheduled and charter air transportation of persons, property and mail from any point or points behind any Member State of the European Union, via any point or points in any Member State and via intermediate points, to any point or points in the United States and beyond; (ii) foreign scheduled and charter air transportation of persons, property and mail between any point or points in the United States and any point or points in any member of the European Common Aviation Area; (iii) foreign scheduled and charter air transportation of cargo between any point or points in the United States and any other point or points; (iv) other charters pursuant to the prior approval requirements; and (v) transportation authorized by any additional route rights made available to European Union carriers under the U.S.-EU Air Transport Agreement in the future. AirBaltic also requests an exemption to the extent necessary to allow it to provide the services described above for a two-year period or until the requested permit authority becomes effective, whichever occurs first.

Docket Number: DOT-OST-1999-6663 and DOT-OST-2011-0076.

Date Filed: March 24, 2015.

Due Date for Answers, Conforming Applications, or Motion to Modify Scope: April 14, 2015.

Description: Application of United Parcel Service Co. requesting an amendment of its U.S.-Mexico certificate of public convenience and necessity and a related exemption, as well as a designation under the U.S.-Mexico Air Transport Agreement authorizing it to provide scheduled foreign air transportation of property and mail between Dallas, Texas (DFW) and Mexico City, Mexico (MEX).

Barbara J. Hairston,
Supervisory Dockets Officer, Docket Operations, Federal Register Liaison.

[FR Doc. 2015-08147 Filed 4-8-15; 8:45 am]

BILLING CODE 4910-9X-P